DEPARTMENT OF THE INTERIOR

Fish and Wildlife Service

[FWS-HQ-R-2015-N237; FF09D00000-FXGO1664091HCC0-167]

Wildlife and Hunting Heritage Conservation Council; Charter Renewal

AGENCY: Fish and Wildlife Service, Interior.

ACTION: Notice.

SUMMARY: Under the Federal Advisory Committee Act (FACA), following consultation with the General Services Administration, the Secretary of the Interior and the Secretary of Agriculture have renewed the Wildlife and Hunting Heritage Conservation Council (Council).

FOR FURTHER INFORMATION CONTACT: Joshua Winchell, Council Coordinator, Fish and Wildlife Service, (703) 358-2639.

SUPPLEMENTARY INFORMATION: The Council provides recommendations on wildlife and habitat management, hunting, and other outdoor recreation, affording stakeholders the opportunity to give policy, management, and technical input to the Secretaries. The Council conducts its operations in accordance with the provisions of the FACA, 5 U.S.C. Appendix 2. The Council reports to the Secretary of the Interior and the Secretary of Agriculture through the Fish and Wildlife Service, in consultation with the Director of the Bureau of Land Management; the Director of the National Park Service; the Chief, U.S. Forest Service; the Chief, Natural Resources Conservation Service; and the Administrator of the Farm Service Agency. The Council will function solely as an advisory body.

Certification: I hereby certify that the Wildlife and Hunting Heritage Conservation Council is necessary and is in the public interest in connection with the performance of duties imposed on the Department of the Interior under 43 U.S.C. 1457 and provisions of the Fish and Wildlife Act of 1956 (16 U.S.C. 742a), the Federal Land Policy and Management Act of 1976 (43 U.S.C. 1701), the National Wildlife Refuge System Improvement Act of 1997 (16 U.S.C. 668dd), and Executive Order 13443, Facilitation of Hunting Heritage and Wildlife Conservation.

Dated: February 10, 2016.
Sally Jewell,
Secretary of the Interior.

[FR Doc. 2016-05693 Filed 3-11-16; 8:45 am]

BILLING CODE 4333-15-P